DEPARTMENT OF THE INTERIOR

Fish and Wildlife Service

[Docket No. FWS-HQ-IA-2024-0202; FXIA16710900000-245-FF09A30000]

Endangered Species; Issuance of Permits

AGENCY: Fish and Wildlife Service, Interior.

ACTION: Notice of issuance of permits.

SUMMARY: We, the U.S. Fish and Wildlife Service (Service), have issued permits to conduct certain activities with endangered species. We issue these permits under the Endangered Species Act (ESA).

ADDRESSES: Information about the applications for the permits listed in this notice is available online at https://www.regulations.gov. See SUPPLEMENTARY INFORMATION for details.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to https://www.regulations.gov and search for the appropriate permit number (e.g., 12345C) provided in the following table:

ePermit No. | Applicant | Permit issuance date
PER4417242 | Toledo Zoological Society | July 9, 2024.
PER10276124 | Gunner B. Peterson | July 10, 2024.
PER7757383 | Emory University | July 12, 2024.
PER10272760 | Southwest Fisheries Science Center | July 15, 2024.
PER10289648 | Saginaw Valley Zoological Society | July 16, 2024.
PER1012710 | Milwaukee County Zoo | July 23, 2024.
PER10215681 | Kootenai Tribe of Idaho | July 25, 2024.
PER10145205 | Delaware Museum of Nature and Science | August 5, 2024.
PER10970319 | Cornell University Animal Health Diagnostic Center and NYS Veterinary Diagnostic Laboratory | August 15, 2024.
PER5817086 | University of New Orleans | August 15, 2024.
PER10200447 | The Peregrine Fund | August 20, 2024.
PER10535315 | Duke University | August 21, 2024.
PER11439122 | DNCR State of North Carolina Zoo dba North Carolina Zoo | September 19, 2024.
PER11444722 | Daniel Pearson | September 19, 2024.
PER12806337 | Tanner Glidden | September 23, 2024.
PER11642225 | William Laird Hamberlin | September 23, 2024.
PER11541207 | Tony Boles | September 24, 2024.
PER11541505 | Zachary Boles | September 24, 2024.
PER11546525 | Paul Hansen | September 24, 2024.
PER11641654 | Sullivan Atkinson | September 25, 2024.
PER11750395 | John Howell | September 25, 2024.
PER11295255 | Tulsa Zoo | September 25, 2024.
PER11277351 | Staten Island Zoo | October 3, 2024.
PER1162024.8 | Smithsonian's National Zoo and Conservation Biology Institute | October 4, 2024.
PER9328605 | David Kanellis | November 4, 2024.
PER2858327 | Vernon Bret Padgett | May 2, 2024.
PER2919227 | Vernon Bret Padgett | May 1, 2024.
PER12017464 | Keith R. Warren | November 18, 2024.
PER12448370 | Michael Merchant | November 18, 2024.
PER12034356 | Daniel Macerelli | November 18, 2024.
PER12331219 | Robert Arthur Sparks | November 18, 2024.
PER12540160 | Drew O'Connor Dennison | November 18, 2024.
PER12540321 | Max S. Buck | November 18, 2024.
PER11200311 | East Coast Zoological Society of Florida, Inc. | November 19, 2024.
PER12289890 | Georgia Safari Conservation Park | November 19, 2024.
PER12275493 | Zoo Atlanta | November 19, 2024.
PER11846441 | San Diego Zoo Wildlife Alliance | December 4, 2024.
PER12575644 | Fresno's Chafee Zoo | December 4, 2024.

Authorities

We issue this notice under the authority of the Endangered Species Act, as amended (16 U.S.C. 1531 et seq.), and its implementing regulations.

Timothy MacDonald,
Government Information Specialist, Branch of Permits, Division of Management Authority.

[FR Doc. 2025-00226 Filed 1-7-25; 8:45 am]

BILLING CODE 4333-15-P